DEPARTMENT OF THE INTERIOR

Bureau of Land Management

[LLNM930000 L51010000.ER0000 LVRWG13G0690]

Notice of Availability of the Final Environmental Impact Statement for the SunZia Southwest Transmission Project in New Mexico and Arizona and Proposed Resource Management Plan Amendments

AGENCY: Bureau of Land Management, Interior.

ACTION: Notice of availability.

SUMMARY: In accordance with the National Environmental Policy Act of 1969, as amended (NEPA), and the Federal Land Policy and Management Act of 1976, as amended (FLPMA), the BLM has prepared a Final Environmental Impact Statement (EIS) and Proposed Resource Management Plan (RMP) amendments for the SunZia Southwest Transmission Line Project (Project), and by this notice is announcing its availability.

DATES: BLM planning regulations state that any person who meets the conditions as described in the regulations may protest the Proposed RMP amendments. Protests must be filed within 30 days of the date that the Environmental Protection Agency (EPA) publishes its Notice of Availability in the Federal Register.

ADDRESSES: Copies of the Final EIS/Proposed RMP amendments have been sent to affected Federal, State, tribal, and local government agencies, public libraries in the Project area, and to interested parties that previously requested a copy. A list of the locations where copies of the Final EIS/Proposed RMP amendments are available for public inspection can be found in the “SUPPLEMENTARY INFORMATION” section below.

A limited number of copies of the document will be available to those who request one. To request a copy, contact Adrian Garcia, BLM Project Manager, BLM New Mexico State Office, 301 Dinosaur Trail, Santa Fe, NM 87508-1560. Interested persons may also review the Final EIS/Proposed RMP amendments on the Internet at www.blm.gov/nm/sunzia. All protests of the proposed RMP amendments must be in writing and mailed to one of the following addresses:

Regular mail: | Overnight mail:
BLM Director (210), Attention: Brenda Williams, P.O. Box 71383, Washington, DC 20024-1383 | BLM Director (210), Attention: Brenda Williams, 20 M Street SE., Room 2134LM, Washington, DC 20003.

FOR FURTHER INFORMATION CONTACT: Adrian Garcia, Project Manager, telephone 505-954-2000; address BLM, New Mexico State Office, 301 Dinosaur Trail, Santa Fe, NM 87508-1560; email agarcia@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The Final EIS/Proposed RMP amendments analyze a right-of-way project application by SunZia Transmission, LLC, (Applicant) for the location of two parallel overhead 500 kilovolt (kV) electric transmission lines from the proposed SunZia East Substation site in Lincoln County, New Mexico, to the existing Pinal Central Substation in Pinal County, Arizona. The proposed Project would include two new, single-circuit 500 kV transmission lines located on Federal, State, and private lands. One of the 500 kV transmission lines would be constructed and operated as an alternating current (AC) facility transmission line, and SunZia could construct and operate the other line as either an AC or direct current (DC) facility. Once constructed, the Project would be in operation year-round. The Applicant has applied for a right-of-way grant term from the BLM of 50 years and is evaluating options for a lease term of 50 years or greater on State and private lands.

The requested right-of-way width would be typically 400 feet to accommodate a separation of 200 feet between the two lines. However, it could be up to 1,000 feet wide in areas where terrain poses engineering or construction constraints. Engineering studies would determine those requirements as part of the plan of development. In addition to the SunZia East Substation site, up to three new substations would be constructed and operated at the following sites on private or State lands: The proposed Midpoint Substation site near Deming, New Mexico, in Luna County; the proposed Lordsburg Substation site near Lordsburg, New Mexico, in Hidalgo County; and the proposed Willow-500 kV Substation site, near Willcox, Arizona, in Graham County.

The lengths of the varying Project alternative routes considered and evaluated in the Final EIS/Proposed RMP amendments range between about 460 and 530 miles. The BLM has identified a preferred alternative route, the length of which is about 515 miles. It is estimated that about 185 miles, or 36 percent, of the right-of-way for the preferred route is located on Federal lands administered by four BLM Field Offices in New Mexico (Las Cruces, Socorro, Rio Puerco, and Roswell), as well as Federal lands administered by two BLM Field Offices in Arizona (Safford and Tucson). The BLM preferred route would cross about 135 miles of Federal lands in New Mexico and 50 miles of Federal lands in Arizona. About 273 miles of the BLM preferred alternative route would fall within designated utility corridors. The BLM's New Mexico State Office has been designated the lead office for this right-of-way application.

In September 2008, the Applicant submitted a right-of-way application to the BLM requesting authorization to construct, operate, maintain, and commission two electric transmission lines on public lands.

On May 29, 2009, the BLM published in the Federal Register (74 FR 25764) a Notice of Intent (NOI) that initiated the public scoping process for the Project. Three scoping periods, including public meetings, were conducted for the Project between June 2009 and April 2010.

Issues and potential impacts to specific resources were identified during scoping and stakeholder meetings, including:

• Engineering and construction restraints;

• Corridor alignments and alternatives;

• Effects to sedimentation in rivers, soil erosion, and alteration of watersheds;

• Effects to wildlife habitats, migratory birds and waterfowl, other bird species, bighorn sheep, and deserts and grasslands;

• Management of invasive plant species and ensuring effective reclamation;

• Effects to cultural resources and archaeological sites;

• Effects to Native American traditional cultural properties and respected places;

• Effects to visual resources and existing viewsheds;

• Conflicts with current land use plans;

• Impacts on Wilderness areas, livestock grazing and ranching, property values, off-highway vehicle use, and military use;

• Effects to rural lifestyles, tourism, and socioeconomic conditions; and

• Effects on sensitive areas such as Wilderness areas, wildlife refuges, national forests, and military withdrawn lands and airspace.

On May 25, 2012, the EPA's Notice of Availability of the Draft EIS/RMP amendments for the SunZia Southwest Transmission Project was published in the Federal Register (77 FR 31355), initiating a 90-day public comment period. The BLM held public meetings in June and July of 2012 in Corona, Socorro, Truth or Consequences, Deming, and Lordsburg, New Mexico; and in Safford, Benson, Tucson, San Manuel, and Eloy, Arizona.

Alternative routes for the proposed transmission lines were divided into four route groups that contain various alternative segments, or subroutes. These are:

Route Group 1: SunZia East Substation to Midpoint Substation—Consists of subroutes 1A, 1A1, 1A2, 1B1, 1B2, 1B2a, and 1B3.

Subroute 1A2 (230.3 miles), the BLM preferred alternative, proceeds northwest from the proposed SunZia East Substation site then continues into Torrance County, about 4 miles north of the Gran Quivira Unit of Salinas Pueblo Missions National Monument, and then enters Socorro County, east of the Sevilleta National Wildlife Refuge. Subroute 1A2 crosses the Rio Grande north of Socorro, and then turns south along an existing transmission line path into Sierra County. The route continues south to the proposed Midpoint Substation site, near Deming, New Mexico. Subroute 1A2 parallels about 141 miles of existing or designated utility right-of-way, and crosses about 108 miles of public land administered by the BLM.

Route Group 2: SunZia East Substation to Midpoint Substation—Generally east of White Sands Missile Range and through the Fort Bliss Army Base within Lincoln, Otero, Doña Ana, and Luna Counties. This group of alternatives was considered during the expanded scoping period of 2010, and then eliminated from detailed study in the Draft EIS/RMP amendments because routes under this group of alternatives would require traversing lands under the jurisdiction of Fort Bliss. Fort Bliss has indicated that overhead transmission lines through its administered lands would have substantial impacts to military operations and would not be compatible with its mission; therefore, Fort Bliss would not grant a right-of-way across lands under its jurisdiction.

Route Group 3: Midpoint Substation to Willow-500 kV Substation—Consists of subroutes 3A, 3A2, and 3B. Subroute 3A2 (123.9 miles), the BLM preferred alternative, is a variation of Subroute 3A. The subroute proceeds west from the proposed Midpoint Substation site then crosses a 115 kV transmission line and U.S. Route 180 about 7.5 miles north of Deming. From that point, Subroute 3A2 proceeds southwesterly then turns northwest to parallel a 345 kV transmission line and pipeline adjacent to the Hidalgo Substation site. The subroute then heads west, to cross the New Mexico-Arizona state line from Hidalgo County into Greenlee County. The subroute proceeds west into Graham County and south of the Hot Well Dunes Recreation Area, then continues through the San Simon Valley to the proposed Willow-500 kV Substation site. Subroute 3A2 parallels about 42 miles of existing or designated utility corridors, and crosses about 62 miles of public land administered by the BLM.

Route Group 4: Willow-500 kV Substation to Pinal Central Substation—Consists of subroutes 4A, 4B, 4C1, 4C2, 4C2a, 4C2b, 4C2c, and 4C3. Subroute 4C2c (161.2 miles), the BLM preferred alternative, follows an existing 345 kV transmission line corridor from the Willow-500 kV Substation site southwest, crossing the San Pedro River about 12 miles north of Benson, Arizona. The route then continues northwesterly, crossing the northeast corner of Pima County, then follows a westerly path through Pinal County, north of Oracle toward the Tortolita Substation, about 25 miles northwest of Tucson. From that point, Subroute 4C2c parallels about 90 miles of existing utilities (including about 72 miles of existing electrical transmission lines). Subroute 4C2c parallels about 90 miles of existing or designated utility corridors, and crosses about 15 miles of public land administered by the BLM.

The Final EIS/Proposed RMP amendments also analyze the environmental consequences of a no action alternative. The no action alternative means that the BLM would deny the right-of-way application for the construction and operation of the proposed SunZia transmission project and would not amend any land use plans. Project facilities, including transmission lines and substations, would not be built and existing land uses and present activities in the Project study area would continue. This alternative does not consider the potential for additional actions that could occur, depending on the decision for the proposed action or alternatives.

The BLM worked with the applicant and the cooperating agencies to identify alternative routes that would conform to existing land use plans and alter the impacts to affected resources. Where the Project does not conform to BLM RMPs, land use plan amendments are proposed to bring the proposed Project into conformance. Proposed plan amendments would comply with applicable Federal laws and regulations and apply only to Federal lands and mineral estate administered by the BLM. Plan amendment alternatives were considered, including multiple-use corridors of varying widths. The BLM preferred alternative is to amend existing RMP visual resource management (VRM) decisions and right-of-way avoidance areas, as described in the Final EIS/Proposed RMP amendments. There are two proposed plan amendments for the BLM preferred alternative:

• Socorro RMP (2010), Socorro Field Office: Modifications to existing VRM decisions and/or to right-of-way avoidance area decisions; and

• Mimbres RMP (1993), Las Cruces District Office: Modifications to existing VRM decisions and/or to right-of-way avoidance area decisions.

Comments on the Draft EIS/RMP amendments received from the public and internal BLM review were considered and incorporated as appropriate into the Final EIS/Proposed RMP amendments. The BLM received more than 900 comment submittals during the Draft EIS/RMP amendments comment period, which contained more than 2,000 unique comments. The Final EIS/Proposed RMP amendments include responses to all substantive comments and revisions to the EIS. In response to comments, modifications, including the following, were made to alternatives analyzed in the Draft EIS/RMP amendments, including the BLM preferred alternative:

• Route Group 1 (Lincoln, Torrance, and Socorro counties, New Mexico): The alternative alignment for Subroute 1A1 was modified to increase the distance between the proposed transmission lines and military operations at the White Sands Missile Range. This is Subroute 1A2, the BLM preferred alternative that is described in the Final EIS.

• Route Group 3 (Hidalgo County, New Mexico; Greenlee, Graham, and Cochise counties in Arizona): Sensitive environmental resources near the Lordsburg Playa and the Peloncillo Mountains Wilderness were identified as issues associated with Subroute 3A1, which was identified as the BLM preferred alternative in the Draft EIS. Subroute 3A2, identified as the BLM preferred alternative in the Final EIS, avoids these sensitive environmental resources. Subroute 3A2 is the same as Subroute 3A, with a modification to a segment of the alignment in the vicinity of the Hot Well Dunes Recreation Area.

• Additional considerations for National Scenic and Historic Trails were included. Instructions for filing a protest with the Director of the BLM regarding the Proposed RMP amendments may be found in the “Dear Reader” letter of the Final EIS/Proposed RMP amendments and at 43 CFR 1610.5-2. Email and faxed protests will not be accepted as valid protests unless the protesting party also provides the original letter by either regular or overnight mail postmarked by the close of the protest period. Under these conditions, the BLM will consider the email or faxed protest as an advance copy and it will receive full consideration. If you wish to provide the BLM with such advance notification, please direct faxed protests to the attention of the BLM protest coordinator at 202-245-0028, and emails to Brenda_Hudgens-Williams@blm.gov.

All protests, including the follow-up letter to emails or faxes, must be in writing and mailed to the appropriate address, as set forth in the ADDRESSES section above.

Copies of the Final EIS/Proposed RMP amendments are available for public inspection during normal business hours at the following locations:

• BLM, Las Cruces District Office, 1800 Marquess Street, Las Cruces, NM 88005-3370

• BLM, Roswell Field Office, 2909 West Second Street, Roswell, NM 88201-2019

• BLM, Socorro Field Office, 901 South Highway 85, Socorro, NM 87801-4168

• BLM, Rio Puerco Field Office, 435 Montano Road NE., Albuquerque, NM 87107-4935

• BLM, New Mexico State Office, 301 Dinosaur Trail, Santa Fe, NM 87508-1560

• New Mexico State Land Office, 310 Old Santa Fe Trail, Santa Fe, NM 87504-1148

• U.S. Army Corps of Engineers, Regulatory Division, 4101 Jefferson Plaza NE., Albuquerque, NM 87109-3435

• U.S. Fish and Wildlife Service, 500 Gold Avenue SW., Albuquerque, NM 87102-3118

• BLM, Gila District Office, 1763 Paseo San Luis, Sierra Vista, AZ 85635-4611

• BLM, Tucson Field Office, 3201 East Universal Way, Tucson, AZ 85756

• BLM, Safford Field Office, 711 14th Avenue, Safford, AZ 85546-3337

• BLM, Arizona State Office, One North Central Avenue, Phoenix, AZ 85004-4427

• Arizona State Land Department, 1616 West Adams, Phoenix, AZ 85007-2614

• Arizona Game and Fish Department, 5000 West Carefree Highway, Phoenix, AZ 85086-5000

Before including your phone number, email address, or other personal identifying information in your protest, you should be aware that your entire protest—including your personal identifying information—may be made publicly available at any time. While you can request that your personal identifying information be withheld from public review, we cannot guarantee that we will be able to do so.

Jesse Juen,
State Director, New Mexico.

[FR Doc. 2013-14110 Filed 6-13-13; 8:45 am]

BILLING CODE 4310-FB-P